ENVIRONMENTAL PROTECTION AGENCY

40 CFR Part 52

[EPA-R06-OAR-2005-NM-0006; FRL-9653-5]

Approval and Promulgation of Implementation Plans; New Mexico; Construction Permit Fees

AGENCY: Environmental Protection Agency (EPA).

ACTION: Proposed rule.

SUMMARY: EPA is proposing to approve revisions which repeal and replace existing rules, and revisions to the applicable State Implementation Plan (SIP) for New Mexico submitted by the State of New Mexico on April 11, 2002, and April 25, 2005, which relate to construction permit fee requirement regulations. The repeal and replace and SIP revisions included in this action would address section 110(a)(2) Clean Air Act (the Act or CAA) requirements related to fees for reviewing and acting on specific air quality construction permit applications received by the New Mexico Environment Department (NMED or Department) and for implementing and enforcing the terms and conditions of the construction permit, excluding any court costs or other costs associated with an enforcement action. EPA has determined that these SIP revisions comply with the Clean Air Act and EPA regulations and are consistent with EPA policies. This action is being taken under section 110 of the Act.

DATES: Comments must be received on or before April 30, 2012.

ADDRESSES: Comments may be mailed to Ms. Ashley Mohr, Air Permits Section (6PD-R), Environmental Protection Agency, 1445 Ross Avenue, Suite 1200, Dallas, Texas 75202-2733. Comments may also be submitted electronically of through hand delivery/courier by following the detailed instructions in the Addresses section of the direct final rule located in the rules section of this Federal Register.

FOR FURTHER INFORMATION CONTACT: Ms. Ashley Mohr, Air Permits Section (6PD-R), Environmental Protection Agency, Region 6, 1445 Ross Avenue, Suite 1200, Dallas, Texas 75202-2733, telephone (214) 665-7289; fax number (214) 665-6762; email address mohr.ashley@epa.gov.

SUPPLEMENTARY INFORMATION: In the final rules section of this Federal Register, EPA is approving the State's SIP submittal as a direct final rule without prior proposal because the Agency views this as a noncontroversial submittal and anticipates no adverse comments. A detailed rationale for the approval is set forth in the direct final rule. If no relevant adverse comments are received in response to this action, no further activity is contemplated. If EPA receives relevant adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the rules section of this Federal Register.

Dated: March 16, 2012.
Al Armendariz,
Regional Administrator, EPA Region 6.

[FR Doc. 2012-7562 Filed 3-28-12; 8:45 am]

BILLING CODE 6560-50-P